DEPARTMENT OF HEALTH AND HUMAN SERVICES

National Institutes of Health

Proposed Collection; 60-Day Comment Request: United States and Global Human Influenza Surveillance in at-Risk Settings

SUMMARY: In compliance with the requirement of Section 3506(c)(2)(A) of the Paperwork Reduction Act of 1995, for opportunity for public comment on proposed data collection projects, the National Institute of Allergy and Infectious Diseases (NIAID), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To request more information on the proposed project or to obtain a copy of the data collection plans and instruments, contact Dr. Diane Post, Program Officer, Respiratory Diseases Branch, NIAID, NIH 5601 Fishers Lane, Bethesda, MD or call non-toll-free number at 240-627-3348 or email your request, including your address to: postd@niaid.nih.gov.

DATES: Comment Due Date: Comments regarding this information collection are best assured of having their full effect if received within 60 days of the date of this publication.

Proposed Collection: United States and Global Human Influenza Surveillance in at-Risk Settings, 0925-NEW, National Institute of Allergies and Infectious Diseases (NIAID), National Institutes of Health (NIH).

Need and Use of Information Collection: These studies will identify individuals with or at risk for influenza through focused surveillance in at-risk settings within the United States and internationally, rapidly identify circulating influenza strains to identify those with pandemic potential and create an invaluable bank of human samples from influenza patients to allow the characterization of the determinants of influenza transmission to and among humans, the immune response to influenza, and the basis of severe disease—critical knowledge gaps impacting effectiveness of decision-making around patient care and pandemic preparedness. These studies will provide insight into viral and host determinants that may be contributing to the transmission of influenza, immune response to influenza, and severity of influenza and associated morbidity and mortality.

OMB approval is requested for 3 years. There are no costs to respondents other than their time. The total estimated annualized burden hours for the entire 3 year request are 1,500.

Estimated Annualized Burden Hours
Type of respondent | Number of respondents | Number of responses per respondent | Average burden per response (in hours) | Total burden hours
Patients | 500 | 2 | 30/60 | 500

Dated: April 3, 2015.
Dione Washington,
Project Clearance Liaison, NIAID, NIH.

[FR Doc. 2015-08149 Filed 4-8-15; 8:45 am]

BILLING CODE 4140-01-P